DEPARTMENT OF EDUCATION

Applications for New Awards—American History and Civics Education National Activities Program

AGENCY: Office of Elementary and Secondary Education, Department of Education.

ACTION: Notice.

SUMMARY: The Department of Education (Department) is issuing a notice inviting applications for fiscal year (FY) 2023 for the American History and Civics Education National Activities (AHC-NA) program, Assistance Listing Number 84.422B. This notice relates to the approved information collection under OMB 1894-0006.

DATES:

Applications Available: April 28, 2023.

Pre-Application Webinars: The Office of Elementary and Secondary Education intends to conduct informational webinars designed to provide technical assistance to interested applicants for grants under the AHC-NA program. These informational webinars will occur approximately 2 weeks after this notice is published in the Federal Register, with information available at https://oese.ed.gov/offices/office-of-discretionary-grants-support-services/effective-educator-development-programs/national-activities-grant/.

Note: For potential grantees new or unfamiliar with grantmaking at the Department, please consult the resources on the Department's Grants web page: www2.ed.gov/fund/grant/about/discretionary/index.html.

Deadline for Notice of Intent to Apply: May 30, 2023.

Deadline for Transmittal of Applications: July 12, 2023.

Deadline for Intergovernmental Review: September 11, 2023.

ADDRESSES: For the addresses for obtaining and submitting an application, please refer to our Common Instructions for Applicants to Department of Education Discretionary Grant Programs, published in the Federal Register on December 7, 2022 (87 FR 75045), and available at https://www.federalregister.gov/documents/2022/12/07/2022-26554/common-instructions-for-applicants-to-department-of-education-discretionary-grant-programs. Please note that these Common Instructions supersede the version published on December 27, 2021.

FOR FURTHER INFORMATION CONTACT: Orman Feres, U.S. Department of Education, 400 Maryland Avenue SW, Washington, DC 20202-5960. Telephone: 202-453-6921. Email: Orman.Feres@ed.gov.

If you are deaf, hard of hearing, or have a speech disability and wish to access telecommunications relay services, please dial 7-1-1.

SUPPLEMENTARY INFORMATION:

Full Text of Announcement

I. Funding Opportunity Description

Purpose of Program: The purpose of the AHC-NA program is to promote new and existing evidence-based strategies to encourage innovative American history, civics and government, and geography instruction, learning strategies, and professional development activities and programs for teachers, principals, or other school leaders, particularly such instruction, strategies, activities, and programs that benefit students from low-income backgrounds and other underserved populations.

Background: The AHC-NA program seeks to promote evidence-based approaches that encourage innovative American history and civics education. In particular, the program seeks to promote strategies, activities, and programs that benefit students from low-income backgrounds and other underserved populations. This program is authorized under section 2233 of the Elementary and Secondary Act of 1965, as amended (ESEA). The Department encourages applications to include strong partnerships and active collaboration between eligible entities, local educational agencies and State educational agencies (SEAs) in their design and proposed implementation. Project activities should reflect the best available research and practice in teaching and learning.

This competition includes one absolute priority, two competitive preference priorities, and one invitational priority. Consistent with section 2233 of the ESEA, the absolute priority addresses innovative instruction or professional development in American history, civics and government, and geography, and Competitive Preference Priority 1 encourages applicants to propose projects that incorporate the use of hands-on civic engagement activities for teachers and students or programs that educate students about the history and principles of the U.S. Constitution, including the Bill of Rights. Competitive Preference Priority 2, drawn from Supplemental Priorities and Definitions for Discretionary Programs (Supplemental Priorities), published in the Federal Register on December 10, 2021, 86 FR 70612, encourages applicants to develop programs that promote equity in student access to educational resources and opportunities. This work may be accomplished by carefully examining and implementing responses to the sources of inequity or by establishing, expanding, or improving efforts intended to engage members of underserved communities in policy and practice.

The Department recognizes the negative impact that inadequate access to and the inequitable distribution of, resources have on the educational experience of students who represent traditionally underserved communities. Access to educational resources and opportunities such as rigorous coursework, and dual enrollment can have positive impacts on underserved students. A December 2020 brief from the National Center for Education Statistics at the Department's Institute of Education Sciences ¹ revealed that a correlation exists between the percentage of students who qualify for free or reduced-price lunch in a school and the likelihood that those students will have access to dual enrollment opportunities. Specifically, the study showed that schools with a higher percentage of students who qualified for free or reduced-price lunch were less likely to offer dual enrollment than schools with a lower rate of participation in free or reduced-price lunch programs. Such examples of inadequate or inequitable access to educational resources can lead to the students from higher poverty schools having fewer opportunities for educational enrichment and a lower likelihood that they will have access to well-rounded coursework and high-quality college and career pathway programs. This could ultimately limit civic engagement in our democracy.

¹ nces.ed.gov/pubsearch/pubsinfo.asp?pubid=2020125.

Effective civics education is a key component in the preservation of the Nation's democracy. Providing students with a strong foundation in information literacy skills is especially important in an age of digital media consumption. A 2019 survey conducted by Common Sense Media and Survey Monkey ² revealed that teens are substantially more likely to obtain their news from information posted on social media platforms or shared by celebrities and influencers than from traditional media outlets. As a result, misinformation can more easily spread, and effective civics education can help students distinguish fact from misinformation by providing them with the knowledge and skills to critically evaluate information and news and develop the skills necessary to meaningfully participate in our democracy.

² https://www.commonsensemedia.org/about-us/news/press-releases/new-survey-reveals-teens-get-their-news-from-social-media-and-youtube.

Therefore, the invitational priority encourages applicants to foster critical thinking and promote student engagement in civics education through professional development and/or student-facing projects using media literacy, digital citizenship, or other activities designed to and promote student engagement in civics. The inclusion of this invitational priority reflects the congressional intent outlined in the 2023 Appropriations Committee Report directing the Department to provide grants that emphasize student engagement, promote civic participation, and cultivate media literacy. Consistent with the use of invitational priorities across grant competitions, applicants are not required to respond to the invitational priority, and applications that meet the invitational priority do not receive a preference or competitive advantage over other applications.

The Department fully recognizes and respects that curriculum decisions are made at the State and local levels, not by the Federal Government, and does not mandate, direct, or control curricula through this competition. Rather, the Department, through this competition, seeks to encourage efforts to implement more effective, student-centered teaching practices and professional development activities while promoting learning practices among students that reflect the diversity of identities, histories, contributions, and experiences to support enriched educational opportunity, equity, and success for all students.

Priorities: This notice contains one absolute priority, two competitive preference priorities, and one invitational priority. In accordance with 34 CFR 75.105(b)(2)(iv), the absolute priority is from section 2233(b)(1) of the ESEA, 20 U.S.C. 6663. Competitive Preference Priority 1 is from section 2233(b)(2) of the ESEA, and Competitive Preference Priority 2 is from the Supplemental Priorities.

Absolute Priority: For FY 2023 and any subsequent year in which we make awards from the list of unfunded applications from this competition, this priority is an absolute priority. Under 34 CFR 75.105(c)(3), we consider only applications that meet this priority.

This priority is:

Innovative Instruction or Professional Development in American History, Civics and Government, and Geography.

Under this priority, we provide funding to projects that are designed to develop, implement, expand, evaluate, and disseminate for voluntary use, innovative, evidence-based approaches or professional development programs in American history, civics and government, and geography. To meet this priority, a project must—

(a) Show potential to improve the quality of teaching of and student achievement in American history, civics and government, or geography, in elementary schools and secondary schools; and

(b) Demonstrate innovation, scalability, accountability, and a focus on underserved populations.

Competitive Preference Priorities: For FY 2023 and any subsequent year in which we make awards from the list of unfunded applications from this competition, these priorities are competitive preference priorities. Under 34 CFR 75.105(c)(2)(i) we award up to an additional 12 points to an application, depending on how well the application meets these priorities.

These priorities are:

Competitive Preference Priority 1—Innovative Activities for Civic Engagement. (up to 5 points)

Under this priority, we provide funding to promote new and existing evidence-based strategies to encourage innovative civics and government learning strategies and professional development activities and programs for teachers, principals, or other school leaders, particularly such instruction, strategies, activities, and programs that benefit low-income students and underserved populations. To meet this priority, a project must include one or both of the following—

(a) Hands-on civic engagement activities for teachers and students; or

(b) Programs that educate students about the history and principles of the Constitution of the United States, including the Bill of Rights.

Competitive Preference Priority 2—Promoting Equity in Student Access to Educational Resources and Opportunities. (up to 7 points)

Under this priority, an applicant must demonstrate that the applicant proposes a project designed to promote educational equity and adequacy in resources and opportunity for underserved students in one or more of the following educational settings:

(i) Early learning programs.

(ii) Elementary school

(iii) Middle school.

(iv) High school.

(v) Career and technical education programs.

(vi) Out-of-school-time settings.

(vii) Alternative schools and programs.

(viii) Juvenile justice system or correctional facilities.

The project also must examine the sources of inequity and inadequacy and implement responses, and may include one or both of the following:

(i) Rigorous, engaging, and well-rounded (e.g., that include music and the arts) approaches to learning that are inclusive with regard to race, ethnicity, culture, language, and disability status and prepare students for college, career, and civic life, including civics programs that support students in understanding and engaging in American democratic practices (up to 3 points).

(ii) Establishing, expanding, or improving the engagement of underserved community members (including underserved students and families) in informing and making decisions that influence policy and practice at the school, district, or State level by elevating their voices, through their participation and their perspectives and providing them with access to opportunities for leadership (e.g., establishing partnerships between civic student government programs and parent and caregiver leadership initiatives) (up to 4 points).

Invitational Priority: For FY 2023 and any subsequent year in which we make awards from the list of unfunded applications from this competition, this priority is invitational priority. Under 34 CFR 75.105(c)(1) we do not give an application that meets these invitational priorities a competitive or absolute preference over other applications.

This priority is:

Projects that describe how they will foster critical thinking and promote student engagement in civics education through professional development and/or student-facing projects using media literacy, digital citizenship, or other activities designed to support students in—

(a) Evaluating sources and evidence using standards of proof;

(b) Understanding their own biases when reviewing information, as well as uncovering and recognizing bias in primary and secondary sources;

(c) Synthesizing information into cogent communications; and

(d) Understanding how inaccurate information may be used to influence individuals and developing strategies to recognize accurate and inaccurate information.

Note: The National Association for Media Literacy Education defines media literacy as “the ability to access, analyze, evaluate, create, and act using all forms of communication.” ³ For the purpose of this priority, digital citizenship means the safe, ethical, responsible, and informed use of technology. This concept encompasses a range of skills and literacies that can include internet safety, privacy and security, cyberbullying, online reputation management, communication skills, information literacy, and creative credit and copyright.

³ https://namle.net/resources/media-literacy-defined.

Definitions: The following definitions apply to this competition. The definition of “evidence-based” is from section 8101 of the ESEA. The definitions of “demonstrates a rationale,” “experimental study,” “logic model,” “moderate evidence,” “project component,” “promising evidence,” “quasi-experimental design study,” “relevant outcome,” “strong evidence,” and “What Works Clearinghouse Handbooks” are from 34 CFR 77.1. The definitions of “children or students with disabilities,” “disconnected youth,” “early learning,” “English learner,” “military- or veteran-connected student,” and “underserved student” are from the Supplemental Priorities.

Children or students with disabilities means children with disabilities as defined in section 602(3) of the Individuals with Disabilities Education Act (IDEA) (20 U.S.C. 1401(3)) and 34 CFR 300.8, or students with disabilities, as defined in the Rehabilitation Act of 1973 (29 U.S.C. 705(37), 705(202)(B)).

Demonstrates a rationale means a key project component included in the project's logic model is informed by research or evaluation findings that suggest the project component is likely to improve relevant outcomes.

Disconnected youth means an individual, between the ages 14 and 24, who may be from a low-income background, experiences homelessness, is in foster care, is involved in the justice system, or is not working or not enrolled in (or at risk of dropping out of) an educational institution.

Early learning means any (a) State-licensed or State-regulated program or provider, regardless of setting or funding source, that provides early care and education for children from birth to kindergarten entry, including, but not limited to, any program operated by a child care center or in a family child care home; (b) program funded by the Federal Government or State or local educational agencies (including any Individuals with Disabilities Education Act (IDEA)-funded program); (c) Early Head Start and Head Start program; (d) non-relative child care provider who is not otherwise regulated by the State and who regularly cares for two or more unrelated children for a fee in a provider setting; and (e) other program that may deliver early learning and development services in a child's home, such as the Maternal, Infant, and Early Childhood Home Visiting Program; Early Head Start; and Part C of IDEA.

English learner means an individual who is an English learner as defined in section 8101(20) of the Elementary and Secondary Education Act of 1965, as amended, or an individual who is an English language learner as defined in section 203(7) of the Workforce Innovation and Opportunity Act.

Evidence-based means an activity, strategy, or intervention that—

(i) Demonstrates a statistically significant effect on improving student outcomes or other relevant outcomes based on—

(A) Strong evidence from at least 1 well-designed and well-implemented experimental study;

(B) Moderate evidence from at least 1 well-designed and well-implemented quasi-experimental study; or

(C) Promising evidence from at least 1 well-designed and well-implemented correlational study with statistical controls for selection bias; or

(ii)(A) Demonstrates a rationale based on high quality research findings or positive evaluation that such activity, strategy, or intervention is likely to improve student outcomes or other relevant outcomes; and

(B) Includes ongoing efforts to examine the effects of such activity, strategy, or intervention.

Experimental study means a study that is designed to compare outcomes between two groups of individuals (such as students) that are otherwise equivalent except for their assignment to either a treatment group receiving a project component or a control group that does not. Randomized controlled trials, regression discontinuity design studies, and single-case design studies are the specific types of experimental studies that, depending on their design and implementation (e.g., sample attrition in randomized controlled trials and regression discontinuity design studies), can meet What Works Clearinghouse (WWC) standards without reservations as described in the WWC Handbooks:

(i) A randomized controlled trial employs random assignment of, for example, students, teachers, classrooms, or schools to receive the project component being evaluated (the treatment group) or not to receive the project component (the control group).

(ii) A regression discontinuity design study assigns the project component being evaluated using a measured variable (e.g., assigning students reading below a cutoff score to tutoring or developmental education classes) and controls for that variable in the analysis of outcomes.

(iii) A single-case design study uses observations of a single case (e.g., a student eligible for a behavioral intervention) over time in the absence and presence of a controlled treatment manipulation to determine whether the outcome is systematically related to the treatment.

Logic model (also referred to as a theory of action) means a framework that identifies key project components of the proposed project (i.e., the active “ingredients” that are hypothesized to be critical to achieving the relevant outcomes) and describes the theoretical and operational relationships among the key project components and relevant outcomes.

Moderate evidence means that there is evidence of effectiveness of a key project component in improving a relevant outcome for a sample that overlaps with the populations or settings proposed to receive that component, based on a relevant finding from one of the following:

(i) A practice guide prepared by the WWC using version 2.1, 3.0, 4.0, or 4.1 of the WWC Handbooks reporting a “strong evidence base” or “moderate evidence base” for the corresponding practice guide recommendation;

(ii) An intervention report prepared by the WWC using version 2.1, 3.0, 4.0, or 4.1 of the WWC Handbooks reporting a “positive effect” or “potentially positive effect” on a relevant outcome based on a “medium to large” extent of evidence, with no reporting of a “negative effect” or “potentially negative effect” on a relevant outcome; or

(iii) A single experimental study or quasi-experimental design study reviewed and reported by the WWC using version 2.1, 3.0, 4.0, or 4.1 of the WWC Handbooks, or otherwise assessed by the Department using version 4.1 of the WWC Handbooks, as appropriate, and that—

(A) Meets WWC standards with or without reservations;

(B) Includes at least one statistically significant and positive (i.e., favorable) effect on a relevant outcome;

(C) Includes no overriding statistically significant and negative effects on relevant outcomes reported in the study or in a corresponding WWC intervention report prepared under version 2.1, 3.0, 4.0, or 4.1 of the WWC Handbooks; and

(D) Is based on a sample from more than one site (e.g., State, county, city, school district, or postsecondary campus) and includes at least 350 students or other individuals across sites. Multiple studies of the same project component that each meet requirements in paragraphs (iii)(A), (B), and (C) of this definition may together satisfy the requirement in this paragraph (iii)(D).

Military- or veteran-connected student means one or more of the following:

(a) A child participating in an early learning program, a student enrolled in preschool through grade 12, or a student enrolled in career and technical education or postsecondary education who has a parent or guardian who is a member of the uniformed services (as defined by 37 U.S.C. 101), in the Army, Navy, Air Force, Marine Corps, Coast Guard, Space Force, National Guard, Reserves, National Oceanic and Atmospheric Administration, or Public Health Service or is a veteran of the uniformed services with an honorable discharge (as defined by 38 U.S.C. 3311).

(b) A student who is a member of the uniformed services, a veteran of the uniformed services, or the spouse of a service member or veteran.

(c) A child participating in an early learning program, a student enrolled in preschool through grade 12, or a student enrolled in career and technical education or postsecondary education who has a parent or guardian who is a veteran of the uniformed services (as defined by 37 U.S.C. 101).

Project component means an activity, strategy, intervention, process, product, practice, or policy included in a project. Evidence may pertain to an individual project component or to a combination of project components (e.g., training teachers on instructional practices for English learners and sustained coaching for these teachers).

Promising evidence means that there is evidence of the effectiveness of a key project component in improving a relevant outcome, based on a relevant finding from one of the following:

(i) A practice guide prepared by WWC reporting a “strong evidence base” or “moderate evidence base” for the corresponding practice guide recommendation;

(ii) An intervention report prepared by the WWC reporting a “positive effect” or “potentially positive effect” on a relevant outcome with no reporting of a “negative effect” or “potentially negative effect” on a relevant outcome; or

(iii) A single study assessed by the Department, as appropriate, that—

(A) Is an experimental study, a quasi-experimental design study, or a well-designed and well-implemented correlational study with statistical controls for selection bias (e.g., a study using regression methods to account for differences between a treatment group and a comparison group); and

(B) Includes at least one statistically significant and positive (i.e., favorable) effect on a relevant outcome.

Quasi-experimental design study means a study using a design that attempts to approximate an experimental study by identifying a comparison group that is similar to the treatment group in important respects. This type of study, depending on design and implementation (e.g., establishment of baseline equivalence of the groups being compared), can meet WWC standards with reservations, but cannot meet WWC standards without reservations, as described in the WWC Handbooks.

Relevant outcome means the student outcome(s) or other outcome(s) the key project component is designed to improve, consistent with the specific goals of the program.

Strong evidence means that there is evidence of the effectiveness of a key project component in improving a relevant outcome for a sample that overlaps with the populations and settings proposed to receive that component, based on a relevant finding from one of the following:

(i) A practice guide prepared by the WWC using version 2.1, 3.0, 4.0, or 4.1 of the WWC Handbooks reporting a “strong evidence base” for the corresponding practice guide recommendation;

(ii) An intervention report prepared by the WWC using version 2.1, 3.0, 4.0, or 4.1 of the WWC Handbooks reporting a “positive effect” on a relevant outcome based on a “medium to large” extent of evidence, with no reporting of a “negative effect” or “potentially negative effect” on a relevant outcome; or

(iii) A single experimental study reviewed and reported by the WWC using version 2.1, 3.0, 4.0, or 4.1 of the WWC Handbooks, or otherwise assessed by the Department using version 4.1 of the WWC Handbooks, as appropriate, and that—

(A) Meets WWC standards without reservations;

(B) Includes at least one statistically significant and positive (i.e., favorable) effect on a relevant outcome;

(C) Includes no overriding statistically significant and negative effects on relevant outcomes reported in the study or in a corresponding WWC intervention report prepared under version 2.1, 3.0, 4.0, or 4.1 of the WWC Handbooks; and

(D) Is based on a sample from more than one site (e.g., State, county, city, school district, or postsecondary campus) and includes at least 350 students or other individuals across sites. Multiple studies of the same project component that each meet requirements in paragraphs (iii)(A), (B), and (C) of this definition may together satisfy the requirement in this paragraph (iii)(D).

Underserved student means a student (which may include children in early learning environments, students in K-12 programs, students in postsecondary education or career and technical education, and adult learners, as appropriate) in one or more of the following subgroups:

(a) A student who is living in poverty or is served by schools with high concentrations of students living in poverty.

(b) A student of color.

(c) A student who is a member of a federally recognized Indian Tribe.

(d) An English learner.

(e) A child or student with a disability.

(f) A disconnected youth.

(g) A technologically unconnected youth.

(h) A migrant student.

(i) A student experiencing homelessness or housing insecurity.

(j) A lesbian, gay, bisexual, transgender, queer or questioning, or intersex (LGBTQI+) student.

(k) A student who is in foster care.

(l) A student without documentation of immigration status.

(m) A pregnant, parenting, or caregiving student.

(n) A student performing significantly below grade level.

(o) A military- or veteran- connected student.

What Works Clearinghouse (WWC) Handbooks (WWC Handbooks) means the standards and procedures set forth in the WWC Standards Handbook, Versions 4.0 or 4.1, and WWC Procedures Handbook, Versions 4.0 or 4.1, or in the WWC Procedures and Standards Handbook, Version 3.0 or Version 2.1 (all incorporated by reference, see § 77.2). Study findings eligible for review under WWC standards can meet WWC standards without reservations, meet WWC standards with reservations, or not meet WWC standards. WWC practice guides and intervention reports include findings from systematic reviews of evidence as described in the WWC Handbooks documentation.

Note: The What Works Clearinghouse Procedures and Standards Handbook (Version 4.1), as well as the more recent What Works Clearinghouse Handbooks released in August 2022 (Version 5.0), are available at https://ies.ed.gov/ncee/wwc/Handbooks.

Program Authority: Section 2233 of the ESEA, 20 U.S.C. 6663.

Note: Projects will be awarded and must be operated in a manner consistent with the nondiscrimination requirements contained in the Federal civil rights laws.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The Supplemental Priorities.

Note: The regulations in 34 CFR part 86 apply to institutions of higher education only.

II. Award Information

Type of Award: Discretionary grants.

Estimated Available Funds: $18,975,000.

Contingent upon the availability of funds and the quality of applications, we may make additional awards in subsequent years from the list of unfunded applications from this competition.

Estimated Range of Awards: $500,000-$1,000,000 per year.

Estimated Average Size of Awards: $650,000 per year.

Maximum Award: We will not make an award exceeding $1,000,000 to any applicant per 12-month budget period. The Department plans to fully fund awards made under this notice with FY 2023 funds.

Estimated Number of Awards: 25-30.

Note: The Department is not bound by any estimates in this notice.

Project Period: Up to 36 months, with potential for renewal of up to an additional 24 months.

III. Eligibility Information

1. Eligible Applicants: An institution of higher education or other nonprofit or for-profit organization with demonstrated expertise in the development of evidence-based approaches with the potential to improve the quality of American history, civics and government, or geography learning and teaching.

Note: If multiple eligible entities wish to form a consortium and jointly submit a single application, they must follow the procedures for group applications described in 34 CFR 75.127 through 34 CFR 75.129.

2. a. Cost Sharing or Matching: This program does not require any cost sharing or matching.

b. Supplement-Not-Supplant: This program involves supplement-not-supplant funding requirements. In accordance with section 2301 of the ESEA, funds made available under this program must be used to supplement, and not supplant, other non-Federal funds that would otherwise be expended to carry out activities under this program.

c. Indirect Cost Rate Information: This program uses a training indirect cost rate. This limits indirect cost reimbursement to an entity's actual indirect costs, as determined in its negotiated indirect cost rate agreement, or 8 percent of a modified total direct cost base, whichever amount is less. For more information regarding training indirect cost rates, see 34 CFR 75.562. For more information regarding indirect costs, or to obtain a negotiated indirect cost rate, please see www2.ed.gov/about/offices/list/ocfo/intro.html.

d. Administrative Cost Limitation: This program does not include any program-specific limitation on administrative expenses. All administrative expenses must be reasonable and necessary and conform to Cost Principles described in 2 CFR part 200 subpart E of the Uniform Guidance.

3. Subgrantees: A grantee under this competition may not award subgrants to entities to directly carry out project activities described in its application.

IV. Application and Submission Information

1. Application Submission Instructions: Applicants are required to follow the Common Instructions for Applicants to Department of Education Discretionary Grant Programs, published in the Federal Register on December 7, 2022 (84 FR 3768), and available at https://www.federalregister.gov/documents/2022/12/07/2022-26554/common-instructions-for-applicants-to-department-of-education-discretionary-grant-programs, which contain requirements and information on how to submit an application. Please note that these Common Instructions supersede the version published on December 27, 2021.

2. Submission of Proprietary Information: Given the types of projects that may be proposed in applications for the AHC-NA program, your application may include business information that you consider proprietary. In 34 CFR 5.11, we define “business information” and describe the process we use in determining whether any of that information is proprietary and, thus, protected from disclosure under Exemption 4 of the Freedom of Information Act (5 U.S.C. 552, as amended).

Because we plan to make successful applications available to the public, you may wish to request confidentiality of business information.

Consistent with Executive Order 12600, please designate in your application any information that you believe is exempt from disclosure under Exemption 4. In the appropriate Appendix section of your application, under “Other Attachments Form,” please list the page number or numbers on which we can find this information. For additional information please see 34 CFR 5.11(c).

3. Intergovernmental Review: This program is subject to Executive Order 12372 and the regulations in 34 CFR part 79. Information about Intergovernmental Review of Federal Programs under Executive Order 12372 is in the application package for this competition.

4. Funding Restrictions: We specify unallowable costs in 2 CFR 200, subpart E. We reference additional regulations outlining funding restrictions in the Applicable Regulations section of this notice.

5. Recommended Page Limit: The application narrative is where you, the applicant, address the selection criteria that reviewers use to evaluate your application. We recommend that you (1) limit the application narrative to no more than 50 pages and (2) use the following standards:

• A “page” is 8.5″ × 11″, on one side only, with 1″ margins at the top, bottom, and both sides.

• Double-space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

Furthermore, applicants are strongly encouraged to include a table of contents that specifies where each required part of the application is located.

6. Notice of Intent to Apply: The Department will be able to develop a more efficient process for reviewing grant applications if it has a better understanding of the number of entities that intend to apply for funding under this competition. Therefore, the Secretary strongly encourages each potential applicant to notify the Department of its intent to submit an application. To do so, please email the program contact person listed under FOR FURTHER INFORMATION CONTACT with the subject line “Intent to Apply,” and include the applicant's name and a contact person's name and email address.

V. Application Review Information

1. Selection Criteria: The selection criteria for this program are from 34 CFR 75.210. An applicant may earn up to a total of 100 points based on the selection criteria. The maximum score for addressing each criterion is indicated in parentheses.

(a) Quality of the project design. (20 points)

(1) The Secretary considers the quality of the design of the proposed project.

In determining the quality of the design of the proposed project, the Secretary considers the following factors:

(i) The extent to which the proposed project demonstrates a rationale. (10 points)

(ii) The extent to which the proposed project represents an exceptional approach to the priority or priorities established for the competition. (10 points)

(b) Need for project. (25 points)

(1) The Secretary considers the need for the proposed project.

(2) In determining the need for the proposed project, the Secretary considers the following factors:

(i) The magnitude or severity of the problem to be addressed by the proposed project. (8 points)

(ii) The extent to which specific gaps or weaknesses in services, infrastructure, or opportunities have been identified and will be addressed by the proposed project, including the nature and magnitude of those gaps or weaknesses. (7 points)

(iii) The extent to which the proposed project will focus on serving or otherwise addressing the needs of disadvantaged individuals. (10 points)

(c) Quality of the management plan. (25 points)

(1) The Secretary considers the quality of the management plan for the proposed project. In determining the quality of the management plan for the proposed project, the Secretary considers the following factors:

(i) The adequacy of the management plan to achieve the objectives of the proposed project on time and within budget, including clearly defined responsibilities, timelines, and milestones for accomplishing project tasks. (13 points)

(ii) The adequacy of procedures for ensuring feedback and continuous improvement in the operation of the proposed project. (12 points)

(d) Adequacy of resources. (30 points)

(1) The Secretary considers the adequacy of resources for the proposed project. In determining the quality of the adequacy of resources, the Secretary considers the following factors:

(i) The adequacy of support, including facilities, equipment, supplies, and other resources, from the applicant organization or the lead applicant organization. (6 points)

(ii) The extent to which the costs are reasonable in relation to the objectives, design, and potential significance of the proposed project. (8 points)

(iii) The extent to which the applicant demonstrates that it has the resources to operate the project beyond the length of the grant, including a multiyear financial and operating model and accompanying plan; the demonstrated commitment of any partners; evidence of broad support from stakeholders (e.g., SEAs, teachers' unions) critical to the project's long-term success; or more than one of these types of evidence. (8 points)

(iv) The relevance and demonstrated commitment of each partner in the proposed project to the implementation and success of the project. (8 points)

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Risk Assessment and Specific Conditions: Consistent with 2 CFR 200.206, before awarding grants under this competition the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal government exceeds $10,000,000, the reporting requirements in 2 CFR part 200, Appendix XII, require you to report certain integrity information to FAPIIS semiannually. Please review the requirements in 2 CFR part 200, Appendix XII, if this grant plus all the other Federal funds you receive exceed $10,000,000.

5. In General: In accordance with OMB's guidance located at 2 CFR part 200, all applicable Federal laws, and relevant Executive guidance, the Department will review and consider applications for funding pursuant to this notice inviting applications in accordance with—

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN), or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license must extend only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case the Secretary establishes a data collection period.

5. Performance Measures: For the purposes of Department reporting under 34 CFR 75.110, we have established the following performance objective for the AHC-NA Program: Participants will demonstrate through pre- and post-assessments an increased understanding of American history, civics and government, and geography.

For purposes of Department reporting under 34 CFR 75.110, we will track performance on this objective through the following measure: The average percentage gain on an American History, Civics and Government, Geography and/or other related assessment after participation in the grant activities.

We advise an applicant for a grant under this program to give careful consideration to this measure in conceptualizing the approach to, and evaluation of, its proposed project. Each grantee will be required to provide, in its annual and final performance reports, data about its performance with respect to this measure.

6. Continuation Awards: In making a continuation award under 34 CFR 75.253, the Secretary considers, among other things: whether a grantee has made substantial progress in achieving the goals and objectives of the project; whether the grantee has expended funds in a manner that is consistent with its approved application and budget; whether the grantee has met the required non-Federal cost share or matching requirement; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

James F. Lane,
Senior Advisor, Office of the Secretary, Delegated the Authority to Perform the Functions and Duties of the Assistant Secretary, Office of Elementary and Secondary Education.

[FR Doc. 2023-08915 Filed 4-27-23; 8:45 am]

BILLING CODE 4000-01-P